DEPARTMENT OF HOMELAND SECURITY

U.S. Citizenship and Immigration Services

Agency Information Collection Activities: Comment Request

ACTION: 30-Day Notice of information collection under review; National Interest Waivers; supplemental evidence to I-140 and I-485; OMB-22.

The Department of Homeland Security, U.S. Citizenship and Immigrations Services (CIS) has submitted the following information collection request to the Office of Management and Budget (OMB) for review and clearance in accordance with the Paperwork Reduction Act of 1995. The information collection was previously published in the Federal Register on January 13, 2004 at 69 FR 1989, allowed a 60-day public comment period. No comments were received by the CIS on this information collection.

The purpose of this notice is to allow an additional 30 days for public comments. Comments are encouraged and will be accepted until November 24, 2004. This process is conducted in accordance with 5 CFR 1320.10.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: National Interest Waivers; Supplemental Evidence to I-140 and I-485.

(3) Agency Form Number, If Any, and the Applicable Component of the Department of Homeland Security Sponsoring the Collection: No Agency Form Number; File No. OMB-22. U.S. Citizenship and Immigration Services.

(4) Affected Public Who Will Be Asked or Required to Respond, as Well as a Brief Abstract: Primary: Individuals or Households. The U.S. Citizenship and Immigration Services will use information collected via the supplemental documentation to determine the eligibility of requests for national interest waivers, and to finalize requests to adjust the lawful permanent resident status.

(5) An Estimate of the Total Number of Respondents and the Amount of Time Estimated for an Average Respondent To Respond: 8,000 responses at one (1) hour per response.

(6) An Estimate of the Total Public Burden (in Hours) Associated With the Collection: 8,000 annual burden hours.

If you have comments, suggestions, or need a copy of the information collection instrument with instructions, please contact Mr. Richard A. Sloan, Director, Regulatory Management Division, U.S. Citizenship and Immigration Services, Department of Homeland Security, 111 Massachusetts Avenue, NW., Washington, DC 20529. Additionally, comments and/or suggestions regarding the estimated public burden and associated response time may also be directed to Richard A. Sloan.

Dated: October 20, 2004.
Richard A. Sloan,
Director, U.S. Citizenship and Immigration Services, Department of Homeland Security.

[FR Doc. 04-23850 Filed 10-25-04; 8:45 am]

BILLING CODE 4410-10-M